DEPARTMENT OF ENERGY

Federal Energy Regulatory Commission

[Docket No. RP00-460-003]

Total Peaking Services, L.L.C.; Notice of Compliance Filing

August 21, 2002.

Take notice that on August 14, 2002, Total Peaking Services, L.L.C. (Total Peaking) tendered for filing as part of its FERC Gas Tariff, Original Volume No. 1, Second Revised Sheet No. 86, with an effective date of August 1, 2001.

Total Peaking states that the filing is being made in compliance with the Commission's Order on Order No. 637 Compliance Filing issued in this docket on June 4, 2001, and in response to the letter Order in this docket issued August 6, 2002.

Total Peaking represents that these sheets are consistent with the August 15, 2000 Compliance Filing that was accepted by the Commission in the June 4, 2001 Order. These sheet replaces an erroneous tariff sheet that was filed on March 1, 2002 and rejected in the August 6, 2002 letter Order.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. The Commission strongly encourages electronic filings. See, 18 CFR 385.2001(a)(1)(iii) and the instructions on the Commission's Web site under the “e-Filing” link.

Linwood A. Watson, Jr.,
Deputy Secretary.

[FR Doc. 02-21855 Filed 8-27-02; 8:45 am]

BILLING CODE 6717-01-P